DEPARTMENT OF ENERGY

Federal Energy Regulatory Commission

Combined Notice of Filings #1

Take notice that the Commission received the following electric corporate filings:

Docket Numbers: EC24-28-000.

Applicants: Vitol PA Wind Marketing LLC, Twin Ridges LLC, Patton Wind Farm, LLC, Highland North LLC.

Description: Joint Application for Authorization Under Section 203 of the Federal Power Act of Twin Ridges LLC, et. al.

Filed Date: 12/20/23.

Accession Number: 20231220-5310.

Comment Date: 5 p.m. ET 1/10/24.

Docket Numbers: EC24-29-000.

Applicants: New Athens Generating Company, LLC, Millennium Power Company, LLC, Gate City Power—NE Generation LLC.

Description: Joint Application for Authorization Under Section 203 of the Federal Power Act of New Athens Generating Company, LLC, et. al.

Filed Date: 12/21/23.

Accession Number: 20231221-5407.

Comment Date: 5 p.m. ET 1/11/24.

Take notice that the Commission received the following electric rate filings:

Docket Numbers: ER10-1257-009; ER10-1258-009.

Applicants: Wabash Valley Energy Marketing, Inc., Wabash Valley Power Association, Inc.

Description: Triennial Market Power Analysis for Central Region of Wabash Valley Power Association, Inc., et. al.

Filed Date: 12/21/23.

Accession Number: 20231221-5397.

Comment Date: 5 p.m. ET 2/20/24.

Docket Numbers: ER10-1819-039; ER10-1820-042.

Applicants: Northern States Power Company, a Wisconsin corporation, Northern States Power Company, a Minnesota corporation.

Description: Triennial Market Power Analysis for Central Region of Northern States Power Company, a Minnesota corporation, et. al.

Filed Date: 12/19/23.

Accession Number: 20231219-5257.

Comment Date: 5 p.m. ET 2/20/24.

Docket Numbers: ER10-3254-004.

Applicants: Cooperative Energy Incorporated (An Electric Membership Corporation).

Description: Second Supplement to December 21, 2020, Updated Market Power Analysis of Cooperative Energy Incorporated (An Electric Membership Corporation).

Filed Date: 12/21/23.

Accession Number: 20231221-5402.

Comment Date: 5 p.m. ET 1/4/24.

Docket Numbers: ER11-2044-042; ER12-162-035; ER13-1266-047; ER15-2211-044; ER21-2280-005; ER22-1385-006; ER23-674-003; ER23-676-003.

Applicants: BHE Power Watch, LLC, BHE Wind Watch, LLC, BHER Market Operations, LLC., Independence Wind Energy LLC, MidAmerican Energy Services, LLC, CalEnergy, LLC, Bishop Hill Energy II LLC, MidAmerican Energy Company.

Description: Triennial Market Power Analysis for Central Region of MidAmerican Energy Company, et. al.

Filed Date: 12/21/23.

Accession Number: 20231221-5409.

Comment Date: 5 p.m. ET 2/20/24.

Docket Numbers: ER18-490-001.

Applicants: Duke Energy Indiana, LLC.

Description: Triennial Market Power Analysis for Central Region of Duke Energy Indiana, LLC.

Filed Date: 12/20/23.

Accession Number: 20231220-5315.

Comment Date: 5 p.m. ET 2/20/24.

Docket Numbers: ER20-55-002; ER21-772-002.

Applicants: Resi Station, LLC, OhmConnect, Inc.

Description: Notice of Change in Status of OhmConnect, Inc., et. al.

Filed Date: 12/19/23.

Accession Number: 20231219-5258.

Comment Date: 5 p.m. ET 1/9/24

Docket Numbers: ER20-2590-002.

Applicants: Basin Electric Power Cooperative.

Description: Triennial Market Power Analysis for Northwest Region of Basin Electric Power Cooperative.

Filed Date: 12/20/23.

Accession Number: 20231220-5316.

Comment Date: 5 p.m. ET 2/20/24.

Docket Numbers: ER24-747-000.

Applicants: NSTAR Electric Company.

Description: § 205(d) Rate Filing: Second Amendment to Vineyard Wind LLC Design and Engineering Agreement to be effective 12/22/2023.

Filed Date: 12/21/23.

Accession Number: 20231221-5272.

Comment Date: 5 p.m. ET 1/11/24.

Docket Numbers: ER24-748-000.

Applicants: PJM Interconnection, L.L.C.

Description: Tariff Amendment: Cancellation of WMPA, SA No. 5597; Queue No. AD2-025 to be effective 2/20/2024.

Filed Date: 12/21/23.

Accession Number: 20231221-5289.

Comment Date: 5 p.m. ET 1/11/24.

Docket Numbers: ER24-749-000.

Applicants: Rockland Capital.

Description: Request of Lee County Generating Station, LLC for Tariff Waiver and Expedited Action.

Filed Date: 12/20/23.

Accession Number: 20231220-5307.

Comment Date: 5 p.m. ET 12/29/23.

Docket Numbers: ER24-750-000.

Applicants: Town Hill Energy Storage 1 LLC.

Description: Baseline eTariff Filing: Application for Market-Based Rate Authorization to be effective 1/1/2024.

Filed Date: 12/21/23.

Accession Number: 20231221-5296.

Comment Date: 5 p.m. ET 1/11/24.

Docket Numbers: ER24-752-000.

Applicants: San Diego Gas & Electric Company.

Description: Notice of Cancellation of Rate Schedule No. 12 with CalPeak Power—Border, LLC of San Diego Gas & Electric Company.

Filed Date: 12/21/23.

Accession Number: 20231221-5403.

Comment Date: 5 p.m. ET 1/11/24.

Docket Numbers: ER24-754-000.

Applicants: Baltimore Gas and Electric Company, PJM Interconnection, L.L.C.

Description: § 205(d) Rate Filing: Baltimore Gas and Electric Company submits tariff filing per 35.13(a)(2)(iii: BGE Single Issue Depreciation Filing to Update OATT Att. H-2A Part II to be effective 3/1/2024.

Filed Date: 12/22/23.

Accession Number: 20231222-5175.

Comment Date: 5 p.m. ET 1/12/24.

Docket Numbers: ER24-755-000.

Applicants: CPV Maple Hill Solar, LLC.

Description: § 205(d) Rate Filing: Revised Reactive Power Rate Schedule to be effective 11/29/2023.

Filed Date: 12/22/23.

Accession Number: 20231222-5229.

Comment Date: 5 p.m. ET 1/12/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 22, 2023.
Debbie-Anne A. Reese,
Deputy Secretary.

[FR Doc. 2023-28755 Filed 12-28-23; 8:45 am]

BILLING CODE 6717-01-P